DEPARTMENT OF ENERGY

Western Area Power Administration

Construction and Operation of the Sacramento Area Voltage Support Project, Sacramento, Sutter, and Placer Counties, CA

AGENCY: Western Area Power Administration, DOE.

ACTION: Notice of Intent to prepare a Supplemental Environmental Impact Statement (SEIS), and conduct scoping meetings; Notice of Floodplain and Wetlands Involvement.

SUMMARY: The Western Area Power Administration (Western), Department of Energy (DOE), intends to prepare a Supplemental Environmental Impact Statement (SEIS) to construct and operate a transmission line for the Sacramento Area Voltage Support (SVS) Project (Project) in California. The Sacramento Municipal Utility District (SMUD) and the City of Roseville (Roseville) will participate in a joint SEIS and Environmental Impact Report (EIR) to address the proposed construction and operation of about 38 miles of 230-kilovolt (kV), new double-circuit transmission line in the Sacramento, California, area.

Western prepared a Draft Environmental Impact Statement (EIS) for the SVS in November 2002 and a final EIS in September 2003. A Record of Decision (ROD) was signed on January 12, 2004. In the ROD, Western made commitments to conduct air, biological, and cultural surveys after funding was secured. SMUD and Roseville have since committed to share in conducting more detailed Project studies and are negotiating funding a voltage support project. Additional alternatives will be analyzed in this SVS SEIS and EIR.

DATES: Open-house public scoping meetings will be held June 5 and 7, 2006, from 4 to 7 p.m. Western invites interested agencies, tribes, organizations, and members of the public to submit comments or suggestions to assist in identifying environmental issues and in determining the appropriate scope of the SEIS and EIR. The public scoping period starts with the publication of this notice in the Federal Register and will continue until June 16, 2006. To be assured consideration, all comments or suggestions regarding the appropriate scope must be received by the end of the scoping period.

ADDRESSES: Open-house public scoping meetings will be held June 5, 2006 (4 to 7 p.m.), at the South Natomas Library, 2901 Truxel Road, Sacramento, California, and June 7, 2006 (4 to 7 p.m.), at the Pleasant Grove School, 3075 Howsley Road, Pleasant Grove, California. Written comments regarding the scoping process should be addressed to Ms. Loreen McMahon, Project Manager, Western Area Power Administration, 114 Parkshore Drive, Folsom, CA 95630-4710; toll-free telephone (866) 859-5126; fax (916) 985-1935, or e-mail svs-seis@wapa.gov.

FOR FURTHER INFORMATION CONTACT: Ms. Loreen McMahon, Project Manager, Western Area Power Administration, telephone (866) 859-5126; fax (916) 985-1935, or e-mail svs-seis@wapa.gov. For general information on DOE's NEPA review procedures or status of a NEPA review, contact Ms. Carol M. Borgstrom, Director of NEPA Policy and Compliance, EH-42, U.S. Department of Energy, 1000 Independence Avenue SW., Washington, DC 20585, telephone (202) 586-4600 or (800) 472-2756.

SUPPLEMENTARY INFORMATION: Western is a power marketing agency of DOE that markets Federal electric power to statutorily defined customers, including project use, municipalities, irrigation districts, and Native American tribes. Western prepared a Draft EIS on the SVS in November 2002 and a final EIS in September 2003. The ROD was signed on January 12, 2004, for the proposed project (69 FR 1721). The EIS and ROD are available upon request by contacting Ms. McMahon as described above. The ROD can also be found on the World Wide Web at http://www.wapa.gov/fedreg/fedreg04.htm.

The previous EIS analyzed environmental impacts of alternatives to improve electric system reliability and provide voltage support for the Sacramento area. The ROD was based upon the analysis in the previous SVS EIS. It stated, “ * * * should the SVS project proceed, it should follow the configuration of the preferred alternative described in the SVS Final EIS.” This alternative is identified as Proposed Action Option B and would consist of (1) reconductoring the double-circuit, 230-kV transmission line from Elverta Substation to Tracy Substation, (2) constructing a new double-circuit, 230-kV transmission line from O'Banion Substation to Elverta Substation, and (3) realigning the transmission line near Pleasant Grove Cemetery between O'Banion and Elverta Substations and Option B of the Cottonwood-Roseville single-circuit, 230-kV transmission line. In the ROD, Western committed to completing more detailed analyses on air, biological, and cultural resources and consultations for Section 7 of the Endangered Species Act and Section 106 of the National Historic Preservation Act.

Since the ROD was issued, SMUD and Roseville have provided funding for environmental studies. Western, SMUD, and Roseville identified additional routing alternatives from O'Banion Substation to Elverta and/or Natomas Substations. The National Environmental Policy Act (NEPA) applies to Western, a Federal agency. The California Environmental Quality Act (CEQA) requirements apply to both SMUD and Roseville. A joint NEPA/CEQA document will be developed, with SMUD as the CEQA lead agency. The SEIS and EIR will analyze the environmental impacts from the construction and operation of a proposed new transmission line between O'Banion Substation and Elverta and/or Natomas Substations for the SVS Project near Sacramento, California. While some of the routing alternatives were already analyzed in the original EIS, Western plans to include them in the SEIS and EIR.

The SEIS and EIR will address the environmental impacts of the construction and operation of about 38 miles of new double-circuit, 230-kV transmission line within portions of Sacramento, Sutter, and Placer Counties. The SVS SEIS and EIR will evaluate alternative transmission line routes between O'Banion Substation and Elverta and/or Natomas Substations, based on scoping results. Western's SEIS process will comply with NEPA (42 U.S.C. 4321-4347, as amended), Council on Environmental Quality regulations for implementing NEPA (40 Code of Federal Regulations [CFR] parts 1500-1508) and DOE NEPA implementing procedures (10 CFR part 1021). SMUD and Roseville's EIR process will comply with § 21000 to § 21006 of the California Public Resources Code, as amended. Because the proposed Project may involve action in floodplains, the SEIS will include a floodplain assessment and floodplain statement of findings following DOE regulations for compliance with floodplain and wetlands environmental review (10 CFR part 1022).

Description

The proposed Project would include (1) building a new transmission line from O'Banion Substation to an area near Cross Canal, (2) building from Cross Canal to the Elverta Substation area, and (3) rebuilding an existing transmission line from the Elverta Substation area to Natomas Substation. Three possible routes have been identified for the second segment. Western will use the scoping process to further explore and refine alternatives. Additional details follow:

Segment 1—O'Banion Substation to Cross Canal

Segment 1 was analyzed and selected as part of the Preferred Alternative in the previous EIS and ROD. Segment 1 would consist of constructing about 17 miles of new 230-kV, double-circuit transmission line adjacent to an existing transmission Right-of-Way (ROW) from O'Banion Substation to an area near Cross Canal. It would parallel the Sutter Bypass and cross the Feather River. Segment 1 would require about 82 new structures and 9 pulling sites resulting in about 28 acres of short-term disturbance and 8 acres of long-term disturbance.

Segment 2A—Cross Canal to Elverta Substation, Western Alignment

Segment 2A would consist of constructing up to about 13 miles of new 230-kV, double-circuit transmission line within a new ROW. This alignment would begin at the termination of Segment 1 and proceed along Cross Canal to Highway 99, then south along Highway 99. At some point between Riego Road and Elkhorn Boulevard the route would go east to a point near East Levee Road then extending south to intercept SMUD's existing Elverta-Natomas Transmission Line south of Elverta Substation. Segment 2A would require about 61 new structures, 7 pulling sites, and 9 miles of access road resulting in about 38 acres of short-term disturbance and 23 acres of long-term disturbance.

Segment 2B—Cross Canal to Elverta Substation, Abandoned Railroad ROW Alignment

Segment 2B would consist of constructing about 10 miles of new 230-kV, double-circuit transmission line along the alignment of an abandoned railroad ROW from the termination of Segment 1 and proceed southeast to an area north of Rio Linda Boulevard. From there, it would continue southwest along the existing ROW and tie into SMUD's existing Elverta-Natomas Transmission Line south of Elverta Substation. Small areas near Rio Linda Boulevard and Elverta Road also would require new transmission line easements. Segment 2B would require about 45 new structures, 5 pulling sites, and 10 miles of access roads resulting in about 35 acres of short-term disturbance and 22 acres of long-term disturbance.

Segment 2C—Cross Canal to Elverta Substation, Eastern Alignment

Segment 2C was analyzed and selected as part of the Preferred Alternative in the previous EIS and ROD. In the previous EIS, this alignment was identified as Option B and was comprised of line segments A/ A1, B, F, G, H, I, and J. The first element of this alignment would reroute the existing Cottonwood-Roseville 230-kV Transmission Line to the east. This reroute would originate at Tower 143/3 and proceed east with construction of new 230-kV transmission line about 4 miles and then south for about 2 miles to rejoin the existing Cottonwood-Roseville Transmission Line between Towers 152/2 and 152/3.

The second element would consist of constructing about 9 miles of new 230-kV, double-circuit transmission line adjacent to an existing transmission ROW from the termination of Segment 1 near Cross Canal, south to approximately Locust Road. It would then continue south, using the vacated Cottonwood-Roseville easement/ROW (from element 1 above) and the other existing ROW to tie into SMUD's existing Elverta-Natomas Transmission Line south of Elverta Substation. Small areas around Elverta Road would require new transmission line easements. Both elements of Segment 2C would include constructing about 15 miles of new transmission line and abandoning 6 miles of existing transmission line. This would require building about 74 new structures, 8 pulling sites, and 7 miles of access road resulting in about 37 acres of short-term disturbance and 19 acres of long-term disturbance.

Segment 3—Elverta Substation to Natomas Substation

Segment 3 would consist of rebuilding about 5 miles of an existing 115/230-kV, double-circuit transmission line within an existing ROW between Elverta and Natomas Substations. This would require about 23 new structures and 3 pulling sites resulting in about 7 acres of short-term disturbance and about 3 acres of long-term disturbance.

No Action

The No Action alternative was analyzed in the previous EIS and is comprised of continued operation and maintenance of existing facilities. If Western determines a need for additional analysis, it will be included in the SEIS.

Agency Responsibilities

Western has determined that an SEIS is required under DOE NEPA Implementing Procedures, 10 CFR 1021.314(a), regarding supplemental EISs. Western will be the lead Federal agency for preparing the SEIS, as defined in 40 CFR 1501.5. In addition, SMUD and Roseville have been designated cooperating agencies. Western will invite other Federal, state, local, and tribal agencies with jurisdiction by law or special expertise, with respect to environmental issues, to be cooperating agencies on the SEIS, as defined in 40 CFR 1501.6. Such agencies also may make a request to Western to be a cooperating agency. Designated cooperating agencies have certain responsibilities to support the NEPA process, as specified in 40 CFR 1501.6(b). As a Federal agency, CEQA does not apply to Western. SMUD is the lead state agency in the CEQA EIR process.

Environmental Issues

This notice is to inform agencies and the public of the proposed Project and solicit comments and suggestions for consideration in preparing the SEIS and EIR. To help the public frame its comments, this notice contains a list of potential environmental issues Western has tentatively identified for analysis. These issues include:

1. Impacts on protected, threatened, endangered, or sensitive species of animals or plants or their critical habitats;

2. Impacts on other biological resources;

3. Impacts on land use, recreation, and transportation;

4. Impacts on floodplains and wetlands;

5. Impacts on cultural or historic resources and tribal values;

6. Impacts on human health and safety;

7. Impacts on air, soil, and water resources (including air quality, surface water impacts, and ground water impacts);

8. Visual impacts; and

9. Socioeconomic impacts and disproportionately high and adverse impacts to minority and low-income populations.

This list is not intended to be all-inclusive or to imply any predetermination of impacts. Western invites interested parties to suggest specific issues within these general categories, or other issues not included above, to be considered in the SEIS.

Public Participation

Opportunities for public participation are planned for the entire SEIS process. Western anticipates the SEIS process will take about 15 months and will include open-house public scoping meetings; consultation and involvement with appropriate Federal, state, local, and tribal governmental agencies; public review and hearings on the published Draft SEIS and EIR; a review and comment period; a published Final SEIS and EIR; and publication of a ROD. Additional informal public meetings may be held in the proposed Project area if public interest and issues indicate a need. Western also will mail newsletters to the proposed Project mailing list to communicate Project status and developments.

Western will hold a scoping period of at least 30 days to ensure that interested members of the public, representatives of groups, and Federal, state, local, and tribal agencies have an opportunity to provide input on the scope of alternatives and issues that will be addressed in the SEIS and EIR. As part of the scoping period, Western will hold public open-house scoping meetings in the Project area. Interested individuals and groups are invited to attend anytime between 4 and 7 p.m., according to the dates and locations noted above. The open-house scoping meetings will be informal, with Western and Project representatives available for one-on-one discussions with attendees. Attendees will have the opportunity to view maps of the transmission line alternative routes, learn about the NEPA process, the proposed schedule, and additional information. Written comments regarding environmental issues, alternatives, and other scoping issues may be turned in at the scoping meetings or may be provided by fax, e-mail, U.S. Postal Service, or other carrier to Western. To be assured consideration, all written comments must be received before the close of the SVS SEIS and EIR scoping period.

Dated: May 1, 2006.
Michael S. Hacskaylo,
Administrator.

[FR Doc. E6-7036 Filed 5-8-06; 8:45 am]

BILLING CODE 6450-01-P